ENVIRONMENTAL PROTECTION AGENCY

[FRL-9903-97-Region-5]

Proposed CERCLA Administrative Cost Recovery Settlement; Cadie Auto Salvage Site, Belvidere, Boone County, Illinois

AGENCY: Environmental Protection Agency (EPA).

ACTION: Notice; request for public comment.

SUMMARY: In accordance with the Comprehensive Environmental Response, Compensation, and Liability Act, as amended (“CERCLA”), notice is hereby given of a proposed administrative settlement for recovery of past response costs concerning the Cadie Auto Salvage Site in Belvidere, Boone County, Illinois with the following settling parties: UOP, LLC; Allied Chemical Corporation; Honeywell International, Inc.; S.J. Smith Company Inc.; United States Department of Energy/Argonne National Laboratory; United States Department of Energy/Sandia National Laboratories; United States Department of Energy/Mound Facility; and Defense Logistics Agency. The settlement requires the non-owner Settling Parties to pay a total of $85,898, plus any interest accrued between the date of receipt of notice by the Settling Parties that EPA has signed the CERCLA Settlement Agreement (Agreement) and the Effective Date of the Agreement, to the Hazardous Substance Superfund through an escrow account to be established by the Settling Party. The settlement includes a covenant not to sue the Settling Parties pursuant to Section 107(a) of CERCLA, and contribution protection for the Settling Parties. For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the EPA, Region 5, Records Center, 77 W. Jackson Blvd., 7th Fl., and Chicago, Illinois 60604.

DATES: Comments must be submitted on or before January 9, 2014.

ADDRESSES: The proposed settlement is available for public inspection at the EPA, Region 5, Records Center, 77 W. Jackson Blvd., 7th Fl., Chicago, Illinois 60604. A copy of the proposed settlement may be obtained from Peter Felitti, Assoc. Regional Counsel, EPA, Office of Regional Counsel, Region 5, 77 W. Jackson Blvd., mail code: C-14J, Chicago, Illinois 60604. Comments should reference the Cadie Auto Salvage Site, Belvidere, Boone County, Illinois and EPA Docket No. and should be addressed to Peter Felitti, Assoc. Regional Counsel, EPA, Office of Regional Counsel, Region 5, 77 W. Jackson Blvd., mail code: C-14J, Chicago, Illinois 60604.

FOR FURTHER INFORMATION CONTACT: Peter Felitti, Assoc. Regional Counsel, EPA, Office of Regional Counsel, Region 5, 77 W. Jackson Blvd., mail code: C-14J, Chicago, Illinois 60604.

SUPPLEMENTARY INFORMATION: The Cadie Auto Salvage Superfund Site is located in Belvidere, Boone County, Illinois. After EPA received a request from the Illinois Environmental Protection Agency, U.S. EPA conducted an assessment of the Site and conducted a removal action. A total of 248 compressed gas cylinders on the Site were shipped off site for disposal as well as approximately 733 gallons of flammable liquids, two oz. of metallic mercury, ten tons of empty drums, eight tons of non-hazardous soil, 18 tons of hazardous soil, and fifty cans of waste aerosols. The work was completed on December 1, 2010. U.S. EPA issued a General Notice Letter to the Settling Parties in June 2011. Between June 2011 and August 2013, EPA and the Settling Parties negotiated the present proposed Administrative Settlement.

Dated: November 21, 2013.
Richard C. Karl,
Director, Superfund Division.

[FR Doc. 2013-29454 Filed 12-9-13; 8:45 am]

BILLING CODE 6560-50-P